DEPARTMENT OF THE INTERIOR

National Park Service

[NPS-WASO-NRNHL-12440; PPWOCRADI0, PCU00RP14.R50000]

National Register of Historic Places; Notification of Pending Nominations and Related Actions

Nominations for the following properties being considered for listing or related actions in the National Register were received by the National Park Service before February 23, 2013. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by April 5, 2013. Before including your address, phone number, email address, or other personal identifying information in your comment, you should be aware that your entire comment—including your personal identifying information—may be made publicly available at any time. While you can ask us in your comment to withhold your personal identifying information from public review, we cannot guarantee that we will be able to do so.

Dated: February 21, 2013.
J. Paul Loether,
Chief, National Register of Historic Places/National Historic Landmarks Program.

ALASKA

Kodiak Island Borough-Census Area

Cape Alitak Petroglyphs District, Address Restricted, Akhiok, 13000139

CALIFORNIA

Nevada County

Empire Mine Historic District, Address Restricted, Grass Valley, 13000140

Placer County

Burns, Irene, House, (Auburn, CA MPS) 405 Linden Ave., Auburn, 13000141

Tuolumne County

Leighton Encampment, Roughly 12 mi. SW of Pinecrest, Pinecrest, 13000142

DISTRICT OF COLUMBIA

District of Columbia

Langston, John Mercer, School, (Public School Buildings of Washington, DC MPS) 43 P St. NW., Washington, 13000143

Slater, John Fox, Elementary School, (Public School Buildings of Washington, DC MPS) 45 P St. NW., Washington, 13000144

FLORIDA

Pinellas County

McKeage, John & Florence, House, 209 Park St. S., St. Petersburg, 13000145

INDIANA

Marion County

Old Lawrence Town Hall, 4510 Franklin Rd., Lawrence, 13000146

IOWA

Dubuque County

Memorial Building, 340 1st Ave. E., Dyersville, 13000148

Polk County

Fitch, F.W., Company Historic District, 300-306 15th & 1510-1526 Walnut Sts., Des Moines, 13000147

KANSAS

Graham County

Keith, Harry, Barn, (Agriculture-Related Resources of Kansas MPS) 200th Ave. & M Rd., Penokee, 13000149

Logan County

Oakley High School Stadium, (New Deal-Era Resources of Kansas MPS) 118 W. 7th St., Oakley, 13000150

Morton County

Point of Rocks—Middle Spring Santa Fe Trail Historic District, (Santa Fe Trail MPS) 2.5 mi. S. of KS 51 & 2 mi. W. of KS 27, Elkhart, 13000151

MONTANA

Carbon County

Kose Hall, 216 Broadway Ave., Belfry, 13000152

Yellowstone County

Babcock Theatre Building, 114-124 N. 28th & 2808-2812 2nd Aves., Billings, 13000153

NEW HAMPSHIRE

Grafton County

Camp Ossipee, (Squam MPS) 11 & 13 Porter Rd., Holderness, 13000154

Rockingham County

Kensington Town House, 95 Amesbury Rd., Kensington, 13000155

In the interest of preservation, a three day comment period is requested for the following resource:

NEW HAMPSHIRE

Strafford County

Woodbury Mill,

1 Dover St., Dover, 13000156

[FR Doc. 2013-06449 Filed 3-20-13; 8:45 am]

BILLING CODE 4312-51-P